DEPARTMENT OF LABOR

Mine Safety and Health Administration

Petitions for Modification

The following parties have filed petitions to modify the application of existing safety standards under section 101(c) of the Federal Mine Safety and Health Act of 1977.

1. Freeman United Coal Mining Company

[Docket No. M-2001-081-C]

Freeman United Coal Mining Company, PO Box 4630, Springfield, Illinois 62708 has filed a petition to modify the application of 30 CFR 75.332(a)(2) (working sections and working places) to its Crown II Mine (I.D. No. 11-02236) located in Macaupin County, Illinois. The petitioner proposes to use one continuous miner to clean up the working face it previously mined while the other continuous miner on the super section starts to cut and load coal from another working face on the same working section, on the same split of air. The petitioner asserts that the proposed alternative method would provide at least the same measure of protection as the existing standard.

2. Peabody Coal Company

[Docket No. M-2001-082-C]

Peabody Coal Company, 1970 Barrett Court, PO Box 1990, Henderson, Kentucky 42420 has filed a petition to modify the application of 30 CFR 75.364(b)(2) (weekly examination) to its Camp #11 Mine (I.D. No. 15-08357) located in Union County, Kentucky. Due to hazardous rib conditions in certain areas of the return air course, traveling and examining this specific area would be unsafe. The petitioner proposes to establish evaluation points to monitor methane and oxygen concentrations immediately inby and outby portions of the specified return air course on a weekly basis. A certified person will examine the conditions of these evaluation points and record the results in a book maintained on the surface of the mine. The petitioner asserts that application of the existing standard would result in a diminution of safety to the miners and that the proposed alternative method would provide at least the same measure of protection as the existing standard.

3. Corbin Colleries, Inc.

[Docket No. M-2001-083-C]

Corbin Colleries, Inc., Rt. 4 Box 142-K, Bluefield, West Virginia has filed a petition to modify the application of 30 CFR 75.1710-1 (canopies or cabs; self-propelled diesel-powered and electric face equipment; installation requirements) to its Mine No. 2 (I.D. No. 44-06857) located in Tazewell County, Virginia. The petitioner proposes to operate self-propelled electric face equipment without cabs or canopies in seams heights of 48 inches or less. The petitioner asserts that application of the existing standard would result in a diminution of safety to the miners.

4. A B & J Coal Company, Inc.

[Docket No. M-2001-084-C]

A B & J Coal Company, Inc., PO Box 35, Vansant, Virginia 24656 has filed a petition to modify the application of 30 CFR 75.1710-1 (canopies or cabs; self-propelled diesel-powered and electric face equipment; installation requirements) to its Mine No. 3 (I.D. No. 44-06974) located in Buchanan County, Virginia. The petitioner proposes to operate self-propelled electric face equipment without cabs or canopies in seams heights of 48 inches or less. The petitioner asserts that application of the existing standard would result in a diminution of safety to the miners.

Request for Comments

Persons interested in these petitions are encouraged to submit comments via e-mail to “comments@msha.gov,” or on a computer disk along with an original hard copy to the Office of Standards, Regulations, and Variances, Mine Safety and Health Administration, 4015 Wilson Boulevard, Room 627, Arlington, Virginia 22203. All comments must be postmarked or received in that office on or before October 17, 2001. Copies of these petitions are available for inspection at that address.

Dated at Arlington, Virginia this 6th day of September 2001.
David L. Meyer,
Director, Office of Standards, Regulations, and Variances.

[FR Doc. 01-23169 Filed 9-14-01; 8:45 am]

BILLING CODE 4510-43-P